DEPARTMENT OF HOMELAND SECURITY

Coast Guard

[Docket No. USCG-2018-0495]

Merchant Mariner Medical Advisory Committee

AGENCY: U.S. Coast Guard, Department of Homeland Security.

ACTION: Notice of Federal Advisory Committee Meeting.

SUMMARY: The Merchant Mariner Medical Advisory Committee and its Working Groups will meet to discuss matters relating to medical certification determinations for issuance of licenses, certificates of registry, and merchant mariners' documents, medical standards and guidelines for the physical qualifications of operators of commercial vessels, medical examiner education, and medical research. The meetings will be open to the public.

DATES:

Meetings: The Merchant Mariner Medical Advisory Committee and its Working Groups are scheduled to meet on Thursday, September 13, 2018, and on Friday, September 14, 2018, from 8:00 a.m. until 5:30 p.m. each day. These meetings may adjourn early if the Committee has completed its business.

Comments and supporting documentation: To ensure your comments are received by Committee members before the meetings, submit your written comments no later than September 5, 2018.

ADDRESSES: The meetings will be held at STAR Center, 2 West Dixie Highway, Dania Beach, FL 33004, https://www.star-center.com/.

Pre-registration Information: Pre-registration is not required for access to this meeting by the public. All attendees will be required to provide a driver's license or government-issued identification card in order to gain admittance to the building.

For information on facilities or services for individuals with disabilities or to request special assistance at the meeting, contact the Alternate Designated Federal Officer as soon as possible using the contact information provided in the FOR FURTHER INFORMATION CONTACT section of this notice.

Instructions: You are free to submit comments at any time, including orally at the meetings, but if you want Committee members to review your comment before the meetings, please submit your comments no later than September 5, 2018. We are particularly interested in comments on the issues in the “Agenda” section below. You must include “Department of Homeland Security” and the docket number USCG-2018-0495. Written comments may also be submitted using the Federal eRulemaking Portal at http://www.regulations.gov. If you encounter technical difficulties with comments submission, contact the individual listed in the FOR FURTHER INFORMATION CONTACT section below. Comments received will be posted without alteration at http://www.regulations.gov, including any personal information provided. You may review the Privacy and Security Notice for the Federal Docket Management System at https://www.regulations.gov/privacyNotice.

Docket Search: For access to the docket, to read documents or comments related to this notice, go to http://www.regulations.gov, type USCG-2018-0495 in the “Search” box, press Enter, and then click on the item you wish to view.

FOR FURTHER INFORMATION CONTACT: Mr. Davis Breyer, Alternate Designated Federal Officer of the Merchant Mariner Medical Advisory Committee, 2703 Martin Luther King Jr. Ave. SE, Stop 7509, Washington, DC 20593-7509, telephone 202-372-1445, fax 202-372-8382 or davis.j.breyer@uscg.mil.

SUPPLEMENTARY INFORMATION: Notice of this meeting is pursuant with the Federal Advisory Committee Act, Title 5 United States Code Appendix.

The Merchant Mariner Medical Advisory Committee Meeting is authorized by U.S. Code, Title 46, section 7115. The Committee advises the Secretary of the Department of Homeland Security on matters related to (a) medical certification determinations for issuance of licenses, certificates of registry, and merchant mariners' documents; (b) medical standards and guidelines for the physical qualifications of operators of commercial vessels; (c) medical examiner education; and (d) medical research.

Agenda

Day 1

The agenda for the September 13, 2018, meeting is as follows:

(1) The full Committee will meet briefly to discuss the Working Groups' business/task statements, which are listed under paragraph 2 and 3 (a)-(b) below.

(2) General Discussion of Mariner Mental Health Issues with presentations by mariner service organizations and industry.

(3) Working Groups will separately address the following task statements, which are available at https://homeport.uscg.mil/missions/ports-and-waterways/safety-advisory-committees/medmac.

(a) Task statement 16-24 Recommendations on Appropriate Diets and Wellness for Mariners While Onboard Merchant Vessels; and

(b) Task statement 17-26, Input to Support Regulatory Reform of Coast Guard Regulations-Executive Orders 13771 and 13783.

(4) Public comment period.

(5) Reports of Working Groups. At the end of the day, the Working Groups will report to the full Committee on what was accomplished in their meetings. The full Committee will not take action on these reports on this date. Any official action taken as a result of these Working Group meetings will be taken on day two of the meeting.

(6) Adjournment of meeting.

Day 2

The agenda for the September 14, 2018, meeting is as follows:

(1) Introduction.

(2) Designated Federal Officer announcements.

(3) Remarks from U.S. Coast Guard Leadership.

(4) Roll call of Committee members and determination of a quorum.

(5) Reports from the following Working Groups:

(a) Task statement 16-24, requesting recommendations on appropriate diets and wellness for mariners while aboard merchant vessels; and

(b) Task statement 17-26, Input to Support Regulatory Reform of Coast Guard Regulations-Executive Orders 13771 and 13783.

(6) New Business:

(a) Task Statement X-1, Communication Between External Stakeholders and the Mariner; and

(b) Task Statement X-2, Mariner Health Issues.

(7) Other items for discussion:

(a) Report on the Mariner Credentialing Program;

(b) Report on National Maritime Center activities; and

(c) Drug and Alcohol Prevention and Investigations.

(8) Public comment period.

(9) Discussion of Working Group recommendations. The Committee will review the information presented on each issue, deliberate on any recommendations presented by the Working Groups, approve/formulate recommendations and close any completed tasks. Official action on these recommendations may be taken on this date.

(10) Closing remarks/plans for next meeting.

(11) Adjournment of meeting.

A copy of all meeting documentation will be available at https://homeport.uscg.mil/missions/ports-and-waterways/safety-advisory-committees/medmac no later than September 5, 2018. Alternatively, you may contact Mr. Davis Breyer as noted in the FOR FURTHER INFORMATION CONTACT section above.

A public comment period will be held during each Working Group and full Committee meeting concerning matters being discussed. Public comments will be limited to three minutes per speaker. Please note that the meeting may adjourn early if the work is completed.

Dated: August 1, 2018.
Jeffrey G. Lantz,
Director of Commercial Regulations and Standards.

[FR Doc. 2018-16867 Filed 8-6-18; 8:45 am]

BILLING CODE 9110-04-P